COMMISSION ON CIVIL RIGHTS

Notice of Public Meeting of the Wyoming Advisory Committee; Cancellation

AGENCY: Commission on Civil Rights.

ACTION: Notice; cancellation of meeting.

The Commission on Civil Rights published a notice in the Federal Register concerning a meeting of the Wyoming Advisory Committee. The meeting, scheduled for Thursday, March 13, 2025, at 1:00 p.m. MT, has been cancelled. The notice is in the Federal Register on Wednesday, February 5, 2025, in FR Document Number 2025-02245 on pages 9016-9017.

FOR FURTHER INFORMATION CONTACT: Liliana Schiller, Support Services Specialist, at lschiller@usccr.gov or (202) 770-1856.

David Mussatt,
Supervisory Chief, Regional Programs Unit.

[FR Doc. 2025-04033 Filed 3-12-25; 8:45 am]

BILLING CODE P